DEPARTMENT OF THE INTERIOR

National Park Service

[NPS-WASO-NRNHL-DTS#-37043; PPWOCRADI0, PCU00RP14.R50000]

National Register of Historic Places; Notification of Pending Nominations and Related Actions

AGENCY: National Park Service, Interior.

ACTION: Notice.

SUMMARY: The National Park Service is soliciting electronic comments on the significance of properties nominated before November 25, 2023, for listing or related actions in the National Register of Historic Places.

DATES: Comments should be submitted electronically by December 26, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 25, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

ARIZONA

Pima County

University of Arizona Campus Agricultural Center, 4101 N Campbell Avenue, Tucson, SG100009695

Barrio San Antonio, Manlove Street, Arroyo Chico, Park Avenue, Aviation Highway, and Santa Rita Ave., Tucson, SG100009712

ILLINOIS

Cook County

Gillson Park and Wilmette Harbor Historic District, Michigan Avenue and Sheridan Road, Wilmette, SG100009684

The Richard E. and Charlotte Henrich House, 24 Brinker Road, Barrington Hills, SG100009685

KANSAS

Allen County

Iola Theatre (Theaters and Opera Houses of Kansas MPS), 202 South Washington Avenue, Iola, MP100009703

Douglas County

First Methodist Church of Eudora, 703 Church Street, Eudora, SG100009704

Elk County

Elk Falls High School Gymnasium (New Deal-Era Resources of Kansas MPS), 1014 Montgomery, Elk Falls, MP100009705

Johnson County

Morrow, George L., Barn (Agriculture-Related Resources of Kansas MPS), 19810 South Hedge Lane, Spring Hill, MP100009711

Morris County

Herington Army Airfield Chapel, 106 Main Street, Latimer, SG100009706

Riley County

Alten-Peak House (Late 19th Century Vernacular Stone Houses in Manhattan, Kansas MPS), 2040 Fort Riley Boulevard, Manhattan, MP100009707

Shawnee County

Union Church Building, 760 North Washington Street, Auburn, SG100009708

MISSOURI

Barry County

Roaring River Camps and Hotel Summer Cottage, 24895 Farm Rd. 1135, Cassville vicinity, SG100009689

Caldwell County

Switzer, P.A. Residence, 211 E Samuel St., Hamilton, SG100009692

Jackson County

Heim Fire Station No. 20, 2701 Guinotte Ave., Kansas City, SG100009693

St. Louis County

#1 Fairway, 11869 Fairlind Dr., Sunset Hills, SG100009688

St. Louis Independent City

LeGear Medicine Company Building, 4155 Beck Avenue, St. Louis, SG100009690

Savings Trust Company of St. Louis, 4915 Delmar Blvd., St. Louis, SG100009691

NORTH DAKOTA

Hettinger County

Erickson, Andrew, Barn (Common Farm and Ranch Barns in North Dakota MPS), 1104 7th St. NE, Hettinger, MP100009697

SOUTH CAROLINA

McCormick County

McCormick County Office Building, 201 East Augusta Street, McCormick, SG100009699

WASHINGTON

Yakima County

Fruit and Produce Row Historic District, Both sides of North First Ave., from West Yakima Ave. north to West D St., Yakima, SG100009696

A request for removal has been made for the following resource(s):

KANSAS

Shawnee County

Kansas State Office Building, 915 SW Harrison Street, Topeka, OT100007341

An additional documentation has been received for the following resource(s):

ARIZONA

Maricopa County

Westwood Village and Estates Historic District (Additional Documentation), (Residential Subdivisions and Architecture in Central Phoenix, 1870-1963, MPS), 2937 North 22nd Avenue, Phoenix, AD100007166

ILLINOIS

Rock Island County

Broadway Historic District (Additional Documentation), Roughly bounded by 17th and 23rd Sts., 5th and 7th Aves., Lincoln Court, and 12th and 13th Aves., Rock Island, AD98001046

Authority: Section 60.13 of 36 CFR part 60.

Sherry A. Frear,
Chief, National Register of Historic Places/National Historic Landmarks Program.

[FR Doc. 2023-27057 Filed 12-8-23; 8:45 am]

BILLING CODE 4312-52-P